DEPARTMENT OF COMMERCE

National Institute of Standards and Technology

Notice of Government Owned Invention Available for Licensing

AGENCY: National Institute of Standards and Technology, Commerce.

ACTION: Notice of government owned invention available for licensing.

SUMMARY: The invention listed below is owned in whole by the U.S. Government, as represented by the Department of Commerce. The invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: (301) 975-4188, fax (301) 869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for licensing is:

NIST Docket Number: 02-008US.

Title: Selective Electroless Attachment of Contacts to Electrochemically-active Molecules.

Abstract: This technology provides a solution-based method for attaching metal contacts to molecular films. The metal contacts are attached to functional groups on individual molecules in the molecular film. The chemical state of the functional group is controlled to induce electroless metal deposition preferentially at the functional group site. The functionalized molecules may also be patterned on a surface to give spatial control over the location of the metal contacts in a more complex structure. Spatial control is limited only by the ability to pattern the molecular film. To demonstrate the feasibility of this concept, self-assembled monolayers of model, molecular-electronic compounds have been prepared on gold surfaces, and these surfaces were subsequently exposed to electroless deposition plating baths. These samples exhibited selective metal contact attachments, even on patterned surfaces.

Dated: April 15, 2004.
Hratch G. Semerjian,
Acting Director.

[FR Doc. 04-9068 Filed 4-20-04; 8:45 am]

BILLING CODE 3510-13-P